DEPARTMENT OF THE INTERIOR

National Park Service

[NPS-WASO-NAGPRA-NPS0024729; PPWOCRADN0-PCU00RP14.R50000]

Notice of Intent To Repatriate Cultural Items: The Museum of Anthropology at Washington State University, Pullman, WA; Correction

AGENCY: National Park Service, Interior.

ACTION: Notice; correction.

SUMMARY: The Museum of Anthropology at Washington State University has corrected a Notice of Intent to Repatriate published in the Federal Register on July 24, 2017. This notice corrects the cultural affiliation determination. Lineal descendants or representatives of any Indian Tribe or Native Hawaiian organization not identified in this notice that wish to claim these cultural items should submit a written request to the Museum of Anthropology at Washington State University. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Museum of Anthropology at Washington State University at the address in this notice by March 1, 2018.

ADDRESSES: Mary Collins, Director Emeritus, Museum of Anthropology at Washington State University, Pullman, WA 99164-4910, telephone (509) 592-6929, email collinsm@wsu.edu.

SUPPLEMENTARY INFORMATION: Notice is here given in accordance with the Native American Graves Protection and Repatriation Act (NAGPRA), 25 U.S.C. 3005, of the intent to repatriate cultural items under the control of the Museum of Anthropology at Washington State University, Pullman, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice corrects the cultural affiliation determination published in a Notice of Intent to Repatriate in the Federal Register (82 FR 34331-34332, July 24, 2017). Additional information in the form of Nez Perce Tribal Resolution NP71-29 of 1971 was found in the Nez Perce Tribal Archives. This document was a response to Washington State University's request for approval for archeological excavations at site 45AS8. The terms of the Resolution include that artifacts found in graves would become the property of the Nez Perce Tribe. Transfer of control of the items in this correction notice has not occurred.

Correction

In the Federal Register (82 FR 34332, July 24, 2017) column 1, paragraph 4, under the heading “Determinations Made by the Museum of Anthropology at Washington State University,” is corrected by substituting the following paragraph:

Pursuant to 25 U.S.C. 3001(2), there is a relationship of shared group identity that can be reasonably traced between the unassociated funerary objects and the Nez Perce Tribe (previously listed as the Nez Perce Tribe of Idaho).

In the Federal Register (82 FR 34332, July 24, 2017) column 1, paragraph 5, sentence 2, under the heading “Additional Requestors and Disposition,” is corrected by substituting the following sentence:

After that date, if no additional claimants have come forward, transfer of control of the unassociated funerary objects to the Nez Perce Tribe (previously listed as the Nez Perce tribe of Idaho) may proceed.

Additional Requestors and Disposition

Lineal descendants or representatives of any Indian Tribe or Native Hawaiian organization not identified in this notice that wish to claim these cultural items should submit a written request with information in support of the claim to Mary Collins, Director Emeritus, Museum of Anthropology at Washington State University, Pullman, WA 99164-4910, telephone (509) 592-6929, email collinsm@wsu.edu, by March 1, 2018. After that date, if no additional claimants have come forward, transfer of control of the unassociated funerary objects to the Nez Perce Tribe (previously listed as the Nez Perce Tribe of Idaho) may proceed.

The Museum of Anthropology at Washington State University is responsible for notifying the Nez Perce Tribe (previously listed as the Nez Perce Tribe of Idaho) and the Confederated Tribes of the Colville Reservation that this correction notice has been published.

Dated: December 4, 2017.
Melanie O'Brien,
Manager, National NAGPRA Program.

[FR Doc. 2018-01728 Filed 1-29-18; 8:45 am]

BILLING CODE 4312-52-P